ELECTION ASSISTANCE COMMISSION

Notice: Request for Substantive Comments on the EAC's Procedural Manual for the Election Assistance Commission's Pilot Voting System Testing and Certification Program Manual

AGENCY: United States Election Assistance Commission (EAC).

ACTION: Notice; Request for Substantive Comments.

SUMMARY: The U.S. Election Assistance Commission (EAC) is publishing a procedural manual for its Pilot Voting System Testing and Certification Program Manual for a fifteen day public comment period. This program sets the administrative procedures for manufacturers seeking certification of pilot voting systems to be used in a federal election.

FOR FURTHER INFORMATION CONTACT: Brian Hancock, Director, Voting System Certification, Washington, DC (202) 566-3100, Fax: (202) 566-1392.

SUPPLEMENTARY INFORMATION:

Background. HAVA requires that the EAC certify and decertify voting systems through testing conducted by accredited laboratories. Section 231(a)(1) of HAVA (42 U.S.C. 15371) specifically requires the EAC to “* * * provide for the testing, certification, decertification and recertification of voting system hardware and software by accredited laboratories.” To meet this obligation, the EAC has created a voluntary program to test pilot voting systems to a set of voluntary pilot certification requirements. The Pilot Testing Certification Program manual sets the procedures for the pilot voting system manufacturers to follow in order to receive certification for their system to be used in a pilot project for a state or local jurisdiction that require EAC certification.

The Pilot Voting System Testing and Certification program manual contains program requirements and procedures for the following areas:

1. Voting system manufacturer registration.

2. When voting system intended for use in a pilot must be submitted for certification.

3. Certification Testing, Technical Review and Grant of Certification for Pilot Voting Systems.

4. Denial of Certification.

5. Pilot Program Monitoring and Reporting.

6. Requests for Interpretations.

7. Release of Certification Program Information.

Substantive Comments: The EAC seeks substantive comments from the public on its proposed procedural manual. Please submit comments consistent with the information below. Comments should identify and cite the section of the manual at issue. Where a substantive issue is raised, please propose a recommended change or alternative policy. All comments submitted will be published at the end of the comment period on the EAC's Web site at http://www.eac.gov. This publication and request for comment is not required under the rulemaking, adjudicative, or licensing provisions of the Administrative Procedures Act (APA). It is a voluntary effort by the EAC to gather input from the public on the EAC's administrative procedures for certifying voting systems to be used in pilot projects. Furthermore, this request by the EAC for public comment is not intended to make any of the APA's rulemaking provisions applicable to development of this or future EAC procedural programs. However, in accordance with the Paperwork Reduction Act of 1995, a separate notice will be published on the Federal Register to request comments regarding the burden of responding to the information collection activities of the proposed manual; please refer to the EAC's Web site, http://www.eac.gov, for further information about the submission of comments regarding burden.

DATES: Submit written or electronic comments on this draft procedural manual on or before 5 p.m. EDT on April 26, 2010.

ADDRESSES: Submit comments via e-mail to votingsystemguidelines@eac.gov; via mail to Brian Hancock, Director of Voting System Certification, U.S. Election Assistance Commission, 1201 New York Avenue, Suite 300, Washington, DC 20005; or via fax to 202-566-1392. An electronic copy of the proposed guidance may be found on the EAC's Web site at http://www.eac.gov.

FOR FURTHER INFORMATION CONTACT: Matthew Masterson, Deputy Director, Testing and Certification Program 1201 New York Avenue, Suite 300, Washington, DC, (202) 566-3100, Fax: (202) 566-1392.

Alice Miller,
Chief Operating Officer, U.S. Election Assistance Commission.

[FR Doc. 2010-8150 Filed 4-8-10; 8:45 am]

BILLING CODE 6820-KF-P